DEPARTMENT OF ENERGY

Federal Energy Regulatory Commission

[Project No. 4851-005]

Pacific Gas and Electric Company; Notice of Application Tendered for Filing With the Commission, Soliciting Additional Study Requests, and Establishing Procedural Schedule for Relicensing and a Deadline for Submission of Final Amendments

April 10, 2007.

Take notice that the following transmission line only project application has been filed with the Commission and is available for public inspection.

a. Type of Application: New License for Transmission Line Only Project.

b. Project No.: P-4851-005.

c. Date Filed: March 30, 2007.

d. Applicant: Pacific Gas and Electric Company.

e. Name of Project: Sly Creek Transmission Line Project.

f. Location: The Sly Creek Transmission Line Project is located in the Sierra Nevada Range, Butte County, California. The project is located about 15 miles east of Oroville, California and is not located within any designated cities, towns, subdivisions or Indian reservations. The project affects less than 2 acres of federal lands administered by the Plumas National Forest.

g. Filed Pursuant to: Federal Power Act 16 U.S.C. 791(a)-825(r).

h. Applicant Contact: Forrest Sullivan, Project Manager, Pacific Gas and Electric Company, 5555 Florin-Perkins Road, Building 500, Sacramento, CA, 95826. Tel: (916) 386-5580.

i. FERC Contact: John Mudre, (202) 502-8902, or john.mudre@ferc.gov.

j. Cooperating Agencies: We are asking Federal, state, local, and tribal agencies with jurisdiction and/or special expertise with respect to environmental issues to cooperate with us in the preparation of the environmental document. Agencies who would like to request cooperating status should follow the instructions for filing such requests described in item l below. Cooperating agencies should note the Commission's policy that agencies that cooperate in the preparation of the environmental document cannot also intervene. See, 94 FERC ¶ 61,076 (2001).

k. Study Request Deadline: Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing requests for cooperating agency status and additional study requests: May 29, 2007.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. Status: This application has not been accepted for filing and is not ready for environmental analysis. We are not soliciting motions to intervene, protests, or final terms and conditions at this time.

n. Project Description: The Sly Creek Transmission Line Project is a constructed transmission line only project that transmits electricity 5.4 miles from the Sly Creek Powerhouse (owned and operated by the South Feather Water and Power Agency under FERC Project No. 2088) to Pacific Gas and Electric Company's Woodleaf-Kanaka Junction Transmission Line Project (FERC Project No. 2281). The Sly Creek Powerhouse is a component of the South Feather Power Project which is a water supply/power project constructed in the late 1950s/early 1960s. The transmission line project consists of an existing single-circuit, 115 kV transmission line, supported primarily on wood-pole, H-frame structures within a 75-foot right-of-way, and appurtenant facilities.

o. Application Availability: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. Consultation: With this notice, we are initiating consultation with the California State Historic Preservation Officer (SHPO), as required by § 106, National Historic Preservation Act, and the regulations of the Advisory Council on Historic Preservation, 36, CFR, at § 800.4.

q. Procedural schedule and final amendments: The application will be processed according to the following schedule. Revisions to the schedule will be made as appropriate.

Issue Deficiency or Acceptance letter: May 2007.

Issue Scoping Document for comments: June 2007.

Hold Scoping Meetings/Site Visit: June 2007.

Request Additional Information, if needed: July 2007.

Notice of application ready for environmental analysis: August 2007.

Notice of the availability of the EA: February 2008.

Final amendments to the application must be filed with the Commission no later than 30 days from the issuance date of the notice of ready for environmental analysis.

Kimberly D. Bose,
Secretary.

[FR Doc. E7-7162 Filed 4-13-07; 8:45 am]

BILLING CODE 6717-01-P